DEPARTMENT OF VETERANS AFFAIRS

Public Availability of the Department of Veterans Affairs FY 2010 Service Contract Inventory

AGENCY: Department of Veterans Affairs.

ACTION: Notice of public availability of FY 2010 service contract inventories.

SUMMARY: In accordance with Section 743 of Division C of the Consolidated Appropriations Act of 2010 (Pub. L. 111-117), Department of Veterans Affairs (VA) is publishing this notice to advise the public of the accessibility of VA's FY 2010 service contract inventory available at http://www1.va.gov/oamm/rlib/scainventory.cfm. This inventory provides information on service contract actions over $25,000 that were made in FY 2010. The information is organized by function to show how contracted resources are distributed throughout the department. The inventory has been developed in accordance with guidance issued on November 5, 2010, by the Office of Management and Budget's Office of Federal Procurement Policy (OFPP). OFPP's guidance is available at http://www.whitehouse.gov/sites/default/files/omb/procurement/memo/service-contract-inventories-guidance-11052010.pdf.

FOR FURTHER INFORMATION CONTACT: Questions regarding the service contract inventory should be directed to Marilyn Harris, Director of Acquisition Policy, Office of Acquisition and Logistics (Policy 001AL-P2) at 202-461-6929 or Marilyn.harris2@va.gov.

Approved: February 7, 2010.
John R. Gingrich,
Chief of Staff, Department of Veterans Affairs.

[FR Doc. 2011-3220 Filed 2-11-11; 8:45 am]

BILLING CODE 8320-01-P